ENVIRONMENTAL PROTECTION AGENCY

40 CFR Part 52

[EPA-R04-OAR-2023-0057; FRL-11847-02-R4]

Air Plan Approval; North Carolina; Revision to Approved Motor Vehicle Emissions Budgets

AGENCY: Environmental Protection Agency (EPA).

ACTION: Final rule.

SUMMARY: The Environmental Protection Agency (EPA) is approving a revision to the North Carolina State Implementation Plan (SIP), submitted by the North Carolina Department of Environmental Quality (NCDEQ), Division of Air Quality, on December 19, 2022. The revision updates the 2026 on-road and nonroad emissions inventories and safety margins and allocates a portion of the newly available 2026 safety margins in the 2008 8-hour Ozone Maintenance Plan to the 2026 nitrogen oxides (NOX) and volatile organic compounds (VOC) motor vehicle emissions budgets (“budgets”) for the North Carolina portion of the Charlotte-Rock Hill, NC-SC bi-state Area (hereinafter referred to as the “North Carolina portion of the Charlotte Maintenance Area”) to accommodate updates from the EPA Motor Vehicle Emissions Simulator (MOVES3) model. The SIP revision also revises the current 2026 budgets based on the MOVES3 updates and recalculates new available safety margins. NCDEQ's December 19, 2022, submission supplements the revised 2008 8-hour Ozone Maintenance Plan submitted by NCDEQ on July 16, 2020, and approved by EPA on August 25, 2021. EPA is approving North Carolina's December 19, 2022, SIP revision pursuant to section 110(a)(1) of the Clean Air Act (CAA) and deeming the budgets adequate for transportation conformity purposes because they meet the applicable statutory and regulatory requirements.

DATES: This rule is effective July 15, 2024.

ADDRESSES: EPA has established a docket for this action under Docket Identification No. EPA-R04-OAR-2023-0057. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Dianna Myers, Air Regulatory Management Section, Air Planning and Implementation Branch, Air and Radiation Division, Region 4, U.S. Environmental Protection Agency, 61 Forsyth Street SW, Atlanta, Georgia 30303-8960. The telephone number is (404) 562-9207. Ms. Dianna Myers can also be reached via electronic mail at Myers.Dianna@epa.gov.

SUPPLEMENTARY INFORMATION:

I. This Action

EPA is approving NCDEQ's December 19, 2022, SIP revision which updates the 2026 on-road and nonroad emissions inventories with the latest (at the time of NCDEQ's submission) approved EPA mobile emissions model, MOVES3, allocates a portion of the newly available safety margin, revises the 2026 NOX and VOC budgets, and recalculates the available safety margins for the North Carolina portion of Charlotte 2008 8-hour Ozone Maintenance Area ¹ for transportation conformity purposes.

¹ The North Carolina portion of the Charlotte Maintenance Area for the 2008 8-hour ozone national ambient air quality standards (NAAQS or standards) is comprised of the following counties: Mecklenburg County in its entirety and portions of Cabarrus, Gaston, Iredell, Lincoln, Rowan, and Union Counties.

The revised 2026 NOX and VOC budgets from NCDEQ's December 19, 2022, SIP revision will replace the existing budgets in the State's 2008 8-hour Ozone Maintenance Plan approved on August 25, 2021. See 86 FR 47387. When today's action is effective, the newly revised 2026 budgets must be used in future transportation conformity analyses for the Area according to the Transportation Conformity Rule. See 40 CFR 93.118. Therefore, the August 25, 2021, approved budgets will no longer be applicable for transportation conformity purposes.

This action revises the 2026 on-road and nonroad emissions inventories and the NOX and VOC safety margins using MOVES3. The revision also allocates a portion of the revised available safety margins to the 2026 NOX and VOC budgets and recalculates new available safety margins. The emissions inventories for point and area sources from NCDEQ's July 16, 2020, SIP revision remain the same. EPA is approving North Carolina's December 19, 2022, SIP revision because it continues to demonstrate maintenance for the Charlotte Maintenance Area.

II. Background

Effective July 20, 2012, EPA designated the Charlotte-Rock Hill, NC-SC Area as Marginal nonattainment for the 2008 8-hour ozone national ambient air quality standard (hereinafter referred to as NAAQS or standard). The North Carolina portion of the Charlotte 2008 Maintenance Area includes Mecklenburg in its entirety and portions of Cabarrus, Gaston, Iredell, Lincoln, Rowan, and Union Counties. The Charlotte Maintenance Area also includes a portion of York County located in Rock Hill, South Carolina. See 77 FR 30088 (May 21, 2012). The North Carolina portion of the Charlotte Maintenance Area is comprised of three metropolitan planning organizations (MPOs): the Charlotte Regional Transportation Planning Organization (CRTPO) which covers Iredell, Mecklenburg, and Union Counties; the Cabarrus-Rowan Metropolitan Planning Organization (CRMPO) which covers Cabarrus and Rowan Counties; and the Gaston-Cleveland-Lincoln Metropolitan Planning Organization (GCLMPO) which covers Gaston, Cleveland, and Lincoln Counties. Although Cleveland County is included in the GCLMPO planning boundary, it was not included in the North Carolina portion of the Charlotte Maintenance Area. Each MPO has its own budget referred to as a “sub-area budget.” The York County, South Carolina, portion of this maintenance area has a separate MPO and budgets. The South Carolina portion of the maintenance area implements transportation conformity independent of the North Carolina portion.

EPA originally approved NCDEQ's 2008 8-hour ozone redesignation request and maintenance SIP for the North Carolina portion of the Charlotte Maintenance Area on July 28, 2015 (80 FR 44873), with base year NOX and VOC actual emissions inventories for 2014; projected, future, and interim year inventories for 2015, 2018, and 2022; and projected final year emission inventory for 2026. On August 17, 2015 (80 FR 49164), EPA approved North Carolina's section 110(l) noninterference demonstration requesting relaxation of the Federal Reid Vapor Pressure requirement from 7.8 pounds per square inch (psi) to 9.0 psi and a revision to the 2026 NOX and VOC sub-area budgets for Mecklenburg and Gaston Counties only. See 80 FR 44868 (July 28, 2015).

On September 11, 2019 (84 FR 47889), EPA approved NCDEQ's July 25, 2018, SIP revision related to North Carolina's I/M Program. The September 11, 2019, SIP approval updated the on-road mobile source inventory and revised the 2026 sub-area VOC and NOX budgets; these remain the current SIP-approved budgets and inventories. The revised 2026 budgets became effective on October 11, 2019.

On August 25, 2021, EPA approved NCDEQ's July 16, 2020, SIP revision which allocated a portion of the available safety margin to the 2026 sub-area NOX and VOC budgets to accommodate updates to the travel demand model used to calculate vehicle miles traveled in the Area. See 86 FR 47387. The revision to the 2026 sub-area budgets became effective on September 24, 2021.

EPA's analysis of North Carolina's December 19, 2022, SIP submittal indicates that maintenance will continue to be demonstrated for the Charlotte Maintenance Area with the revised MOVES3 on-road and nonroad emissions inventories, revised safety margins and new allocations of the available safety margins to the 2026 budgets because the total level of emissions from all source categories remains equal to or less than the attainment level of emissions.

In a notice of proposed rulemaking (NPRM) published on April 12, 2024 (89 FR 25849), EPA proposed to approve the December 19, 2022, SIP revision. The details of North Carolina's submittal and the rationale for EPA's action are explained further in the April 12, 2024, NPRM. Comments on the NPRM were due on or before May 13, 2024. EPA did not receive any comments on the April 12, 2024, NPRM.

Tables 1 through 3, below, provide the Revised NOX and VOC Total Man-Made Emissions and Safety Margins.²

² A safety margin is the difference between the attainment level of emissions from all source categories (i.e., point, area, on-road, and nonroad) and the projected level of emissions in the maintenance year from all source categories.

Table 1—Revised Total Man-Made NOX Emissions for North Carolina Portion of the Charlotte Maintenance Area
[Tons/day]
County | 2014 | 2015 | 2018 | 2022 | 2026
Cabarrus * | 11.49 | 10.73 | 6.78 | 5.44 | 4.61
Gaston * | 27.89 | 27.62 | 12.03 | 6.41 | 7.87
Iredell * | 6.86 | 6.49 | 5.41 | 4.68 | 4.42
Lincoln * | 4.36 | 4.71 | 6.41 | 4.29 | 2.48
Mecklenburg | 56.71 | 52.97 | 39.16 | 33.52 | 34.95
Rowan * | 11.74 | 11.31 | 8.28 | 7.01 | 6.02
Union * | 11.13 | 10.36 | 6.63 | 5.09 | 4.40
Total | 130.18 | 124.19 | 84.69 | 66.44 | 64.75
* Emissions for the portion of the county included in the maintenance area.

Table 2—Revised Total Man-Made VOC Emissions for North Carolina Portion of the Charlotte Maintenance Area
[Tons/day]
County | 2014 | 2015 | 2018 | 2022 | 2026
Cabarrus * | 11.50 | 11.27 | 9.51 | 9.23 | 8.57
Gaston * | 12.96 | 12.74 | 11.53 | 10.94 | 10.42
Iredell * | 6.33 | 6.22 | 5.29 | 5.11 | 4.88
Lincoln * | 6.55 | 6.47 | 4.81 | 4.66 | 4.63
Mecklenburg | 50.10 | 49.16 | 45.31 | 44.47 | 43.72
Rowan * | 12.59 | 12.38 | 12.47 | 12.19 | 11.96
Union * | 13.09 | 12.85 | 10.91 | 10.68 | 10.39
Total | 113.12 | 111.09 | 99.82 | 97.28 | 94.57
* Emissions for the portion of the county included in the maintenance area.

Table 3—Revised Safety Margins for the North Carolina Portion of the Charlotte Maintenance Area
Year | NOX (tons/day) | VOC (tons/day)
2014 | N/A | N/A
2015 | −5.99 | −2.03
2018 | −45.49 | −13.30
2022 | −63.74 | −15.84
2026 | −65.43 | −18.55

Table 4 provides the Revised On-road NOX and VOC Emissions Inventories and Table 5 provides the NOX and VOC Percentage of the On-Road Emissions Allocated to the Motor Vehicle Emissions Budget.

Table 4—Revised On-Road Mobile Source NOX and VOC Summer Day Emissions in 2014 and 2026 for the North Carolina Portion of the Charlotte Maintenance Area
County | 2014 NOX: tons/day | 2014 NOX: kg/day | 2014 VOC: tons/day | 2014 VOC: kg/day | 2026 NOX: tons/day | 2026 NOX: kg/day | 2026 VOC: tons/day | 2026 VOC: kg/day
Cabarrus * | 6.60 | 5,989 | 4.15 | 3,765 | 2.43 | 2,208 | 1.76 | 1,600
Gaston * | 8.11 | 7,357 | 4.61 | 4,179 | 2.45 | 2,224 | 1.68 | 1,524
Iredell * | 3.36 | 3,045 | 1.95 | 1,768 | 1.29 | 1,171 | 0.86 | 782
Lincoln * | 3.00 | 2,723 | 1.91 | 1,737 | 1.06 | 963 | 0.76 | 688
Mecklenburg * | 26.99 | 24,488 | 14.40 | 13,060 | 12.08 | 10,957 | 7.14 | 6,476
Rowan * | 6.42 | 5,825 | 3.76 | 3,408 | 1.94 | 1,757 | 1.37 | 1,246
Union * | 5.67 | 5,146 | 3.54 | 3,210 | 2.29 | 2,074 | 1.62 | 1,471
Total | 60.15 | 54,572 | 34.32 | 31,127 | 23.54 | 21,354 | 15.19 | 13,787
* Emissions for the portion of the county included in the maintenance area.

Table 5—Percentage of On-Road Emissions Allocated to the 2026 Motor Vehicle Emissions Budget
County | NOX (%) | VOC (%)
Cabarrus | 65 | 67
Gaston | 60 | 62
Iredell | 62 | 62
Lincoln | 62 | 62
Mecklenburg | 57 | 57
Rowan | 65 | 67
Union | 60 | 62

Based on the on-road emissions inventory revisions in Table 4, the following tables provide the NOX and VOC sub-area budgets with the proposed safety margin allocations in kg/day for transportation conformity purposes for 2026 (2014 is only shown for illustration because no changes are being made to the budgets for that year).

Table 6—Cabarrus-Rowan Metropolitan Planning Organization (CRMPO) Budgets in 2014 and 2026
[kg/day] *
| 2014 NOX | 2014 VOC | 2026 NOX | 2026 VOC
Base On-road Emissions | 11,814 | 7,173 | 3,965 | 2,846
Safety margin allocated to budget |  |  | 2,578 | 1,907
Conformity budget | 11,814 | 7,173 | 6,543 | 4,753
* Includes the portions of Cabarrus and Rowan Counties in the maintenance area.

Table 7—Gaston-Cleveland-Lincoln Metropolitan Planning Organization (GCLMPO) Budgets in 2014 and 2026
[kg/day] *
| 2014 NOX | 2014 VOC | 2026 NOX | 2026 VOC
Base On-road Emissions | 10,079 | 5,916 | 3,187 | 2,212
Safety margin allocated to budget |  |  | 1,930 | 1,371
Conformity budget | 10,079 | 5,916 | 5,117 | 3,583
* Includes the portions of Gaston and Lincoln Counties in the maintenance area. Although Cleveland County is included in the MPO, it is not included in the Charlotte ozone maintenance area.

Table 8—Proposed Charlotte Regional Transportation Planning Organization (CRTPO) Rocky River Rural Planning Organization (RRRPO) Budgets in 2014 and 2026
[kg/day] *
| 2014 NOX | 2014 VOC | 2026 NOX | 2026 VOC
Base On-road Emissions | 32,679 | 18,038 | 14,202 | 8,729
Safety margin allocated to budget |  |  | 8,215 | 5,089
Conformity budget | 32,679 | 18,038 | 22,417 | 13,818
* Includes all of Mecklenburg County and a portion of Iredell and Union Counties in the maintenance area.

The remaining new safety margins after the allocation to the 2026 budgets are 51.41 tons/day and 9.33 tons/day for NOX and VOC, respectively, as shown below in Table 9.

Table 9—New Safety Margins for the North Carolina Portion of the Charlotte Maintenance Area
Year | NOX (tons/day) | VOC (tons/day)
2014 | N/A | N/A
2015 | −5.99 | −2.03
2018 | −45.49 | −13.30
2022 | −63.74 | −15.84
2026 | −51.41 | −9.33

III. Final Action

EPA has evaluated North Carolina's submittal and has determined that it meets the applicable requirements of the CAA and EPA regulations and is consistent with EPA policy. Therefore, EPA is approving NCDEQ's December 19, 2022, SIP revision to revise the Charlotte 2008 8-hour Ozone Maintenance Plan that updates the 2026 on-road and nonroad emissions inventories and safety margins with MOVES3 and allocates a portion of the newly available 2026 safety margins to the budgets. The SIP revision also updates the current 2026 budgets with MOVES3 and recalculates new available safety margins. The revised budgets ensure continued attainment of the 2008 8-hour ozone NAAQS through the maintenance year 2026. In addition, EPA is deeming the budgets adequate for transportation conformity purposes because the budgets meet the adequacy criteria in the conformity rule at 40 CFR 93.118(e)(4). Once this action is effective, the newly revised MOVES3 2026 budgets for NOX and VOC identified in Tables 6 through 8 will be used by the MPOs in future transportation conformity determinations.

Within 24 months from the effective date of this approval, the transportation partners are required to demonstrate conformity to the revised NOX and VOC budgets pursuant to 40 CFR 93.104(e).

IV. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

NCDEQ did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by August 12, 2024. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental Protection, Air Pollution Control, Incorporation by reference, Intergovernmental relations, Nitrogen oxides, Particulate matter, Ozone, Reporting and Recordkeeping Requirements, Sulfur oxides, Volatile organic compounds.

Dated: June 4, 2024.
Jeaneanne Gettle,
Acting Regional Administrator, Region 4.

PART 52—APPROVAL AND PROMULGATION OF IMPLEMENTATION PLANS

1. The authority citation for part 52 continues to read as follows:

Authority: 42.U.S.C. 7401 et seq.

Subpart II—North Carolina

2. In § 52.1770 (e), amend the table by adding a new entry for “MVEB Revision to the 2008 8-hour Ozone Maintenance Plan for the North Carolina portion of the bi-state Charlotte Area” at the end of the table.

The addition reads as follows:

§ 52.1770 Identification of plan.

* * * * *

(e) * * *

EPA-Approved North Carolina Non-Regulatory Provisions
Provision | State effective date | EPA approval date | Federal Register citation | Explanation
* * * * * * *
MVEB Revision to the 2008 8-hour Ozone Maintenance Plan for the North Carolina portion of the bi-state Charlotte Area | 12/19/2022 | 6/13/2024 | [Insert first page of Federal Register citation]

[FR Doc. 2024-12805 Filed 6-12-24; 8:45 am]

BILLING CODE 6560-50-P